DEPARTMENT OF TRANSPORTATION

Federal Aviation Administration

Notice of Intent To Release Airport Property From Quitclaim Deed; Fort Lauderdale Executive Airport, Fort Lauderdale, FL

AGENCY: Federal Aviation Administration (FAA), DOT.

ACTION: Request for public comment.

SUMMARY: The FAA hereby provides notice of intent to release approximately 64.32 acres of airport property at Fort Lauderdale Executive Airport, Fort Lauderdale, FL, from the conditions, reservations, and restrictions as contained in a Quitclaim Deed agreement between the FAA and the City of Fort Lauderdale, FL, dated March 11, 1947. The release of property will allow the City of Fort Lauderdale to dispose of the property for other than aeronautical purposes. The property is located within Tract 1 of F-X-E Plat (Parcels 19B, 25, 26 and 27) at the northwest corner of W. Commercial Boulevard (S.R. 870) and NW. 12th Avenue. The parcels are currently designated as non-aeronautical land use. The property will be released of its federal obligations for commercial land use. The fair market value of these parcels have been determined to be $12,085,000.

DATES: Comments are due on or before June 19, 2015.

ADDRESSES: Documents are available for review at Fort Lauderdale Executive Airport, 6000 NW 21st Avenue, Fort Lauderdale, FL 33309; and the FAA Airports District Office, 5950 Hazeltine National Drive, Suite 400, Orlando, FL 32822. Written comments on the Sponsor's request must be delivered or mailed to: Marisol C. Elliott, Program Manager, Orlando Airports District Office, 5950 Hazeltine National Drive, Suite 400, Orlando, FL 32822-5024. Documents reflecting the Sponsor's request are available for inspection by appointment only at Fort Lauderdale Executive Airport and by contacting the FAA at the address listed above.

FOR FURTHER INFORMATION CONTACT: Marisol C. Elliott, Program Manager, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Issued in Orlando, Florida on May 14, 2015.
Bart Vernace,
Manager, Orlando Airports District Office, Southern Region.

[FR Doc. 2015-12260 Filed 5-19-15; 8:45 a.m.]

BILLING CODE 4910-13-P